DEPARTMENT OF DEFENSE

Department of the Navy

Notice of Intent To Grant Exclusive Patent License; Ohio State University

AGENCY: Department of the Navy, DOD.

ACTION: Notice.

SUMMARY: The Department of the Navy hereby gives notice of its intent to grant to Ohio State University, a revocable, nonassignable, exclusive license to practice worldwide the Government-owned inventions described in U.S. Patent Application Serial No. 09/747,521, entitled “Methods for Protection Against Lethal Infection with Bacillus Anthracis,” filed December 21, 2000, in the field of injectable and noninjectable protective DNA vaccines against Bacillus anthracis intoxication.

DATES: Anyone wishing to object to the grant of this license must file written objections along with supporting evidence, if any, not later than July 23, 2001.

ADDRESSES: Written objections are to be filed with the Office of Technology Transfer, Naval Medical Research Center, 503 Robert Grant Ave., Silver Spring, MD 20910-7500, telephone (301) 319-7428.

FOR FURTHER INFORMATION CONTACT: Dr. Charles Schlagel, Director, Office of Technology Transfer, Naval Medical Research Center, 503 Robert Grant Ave., Silver Spring, MD 20910-7500, telephone (301) 319-7428.

Dated: June 25, 2001.
Saundra K. Melancon,
Paralegal Specialist, Office of Judge Advocate General, Alternate Federal Register Liaison Officer.

[FR Doc. 01-16886 Filed 7-5-01; 8:45 am]

BILLING CODE 3810-FF-U